DEPARTMENT OF COMMERCE

Census Bureau

Proposed Information Collection; Comment Request; Business and Professional Classification Report (SQ-CLASS)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 28, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument(s) and instructions should be directed to Scott Handmaker, Chief, Economic Classifications Operations Branch, U.S. Census Bureau, 8K149, Washington, DC 20233, Telephone: 301-763-7107; Email: Scott.P.Handmaker@census.gov.

SUPPLEMENTARY INFORMATION:

I. Abstract

The Business and Professional Classification Report survey (SQ-CLASS) collects information on new businesses to obtain proper industry classification for use in economic surveys conducted by the U.S. Census Bureau. The survey, conducted quarterly, samples businesses with newly assigned Employer Identification Numbers (EINs) from the Internal Revenue Service (IRS). Businesses can only be selected once for the survey. The SQ-CLASS form collects data about a business in such areas as primary business activity, company structure, size, and business operations. This information is used to update the sampling frame for current business surveys, which ensures high quality economic estimates. Additionally, by ensuring proper industry classification, this survey reduces respondent burden for the five-year Economic Census, as businesses will be mailed Economic Census forms specifically tailored to their industry.

We plan a few changes to the form. Most of the changes to the questionnaire will be aesthetic. The questionnaire will be redeveloped in the Census Bureau's standard form design software. This will give it the look of the other Census Bureau's economic surveys and the Economic Census. Minimal changes will be made to the wording and organization of existing questions and instructions to ensure consistency across the economic surveys and/or the Economic Census.

II. Method of Collection

Information is collected by Internet, mail, fax, and telephone follow-up.

III. Data

OMB Number: 0607-0189.

Form Number: SQ-CLASS.

Type of Review: Regular.

Affected Public: Businesses and other organizations in the United States.

Estimated Number of Respondents: 52,000 business firms.

Estimated Time per Response: 13 minutes.

Estimated Total Annual Burden Hours: 11,267 hours.

Estimated Total Annual Cost: $340,489.

Respondent's Obligation: Mandatory.

Legal Authority: Title 13 U.S. Code 182 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 23, 2013.
Glenna Mickelson,
Management Analyst, Office of the Chief Information Officer.

[FR Doc. 2013-09977 Filed 4-26-13; 8:45 am]

BILLING CODE 3510-07-P